NUCLEAR REGULATORY COMMISSION

[Docket No. 30-03754-MLA and ASLBP No. 02-799-01-MLA]

ABB Prospects, Inc.; Designation of Presiding Officer

Pursuant to delegation by the Commission, see 37 FR 28,710 (Dec. 29, 1972), and the Commission's regulations, see 10 CFR 2.1201, 2.1207, notice is hereby given that (1) a single member of the Atomic Safety and Licensing Board Panel is designated as Presiding Officer to rule on petitions for leave to intervene and/or requests for hearing; and (2) upon making the requisite findings in accordance with 10 CFR 2.1205(h), the Presiding Officer will conduct an adjudicatory hearing in the following proceeding: ABB Prospects, Inc., CE Windsor Site, (Material License Amendment-Decommissioning)

The hearing will be conducted pursuant to 10 CFR part 2, subpart L, of the Commission's Regulations, “Informal Hearing Procedures for Adjudications in Materials and Operator Licensing Proceedings.” This proceeding concerns a May 8, 2002 hearing request submitted by the Connecticut Department of Environmental Protection regarding a January 7, 2002 decommissioning plan submitted by ABB Prospects, Inc., for portions of the CE Windsor site in Windsor, Connecticut. The request was filed in response to a notice of opportunity to request a hearing and petition to intervene published in the Federal Register on April 10, 2002 (67 FR 17472).

The Presiding Officer in this proceeding is Administrative Judge Ann Marshall Young. Pursuant to the provisions of 10 CFR 2.722, 2.1209, Administrative Judge Lester S. Rubenstein has been appointed to assist the Presiding Officer in taking evidence and in preparing a suitable record for review.

All correspondence, documents, and other materials shall be filed with Judges Young and Rubenstein in accordance with 10 CFR 2.1203. Their addresses are:

Administrative Judge Ann Marshall Young, Presiding Officer, Atomic Safety and Licensing Board Panel, U.S. Nuclear Regulatory Commission, Washington, DC 20555-0001

Lester S. Rubenstein, Special Assistant, Atomic Safety and Licensing Board Panel, U.S. Nuclear Regulatory Commission, Washington, DC 20555-0001

Issued at Rockville, Maryland, this 29th day of May 2002.
G. Paul Bollwerk III,
Chief Administrative Judge, Atomic Safety and Licensing Board Panel.

[FR Doc. 02-15166 Filed 6-16-02; 8:45 am]

BILLING CODE 7590-01-P